DEPARTMENT OF HOMELAND SECURITY

U.S. Citizenship and Immigration Services

[CIS No. 2532-13; DHS Docket No.: USCIS-2006-0068]

Introduction of the Revised Employment Eligibility Verification Form; Correction

AGENCY: U.S. Citizenship and Immigration Services, DHS.

ACTION: Notice; correction.

SUMMARY: On March 8, 2013, U.S. Citizenship and Immigration Services (USCIS) published a notice in the Federal Register announcing the recently revised Employment Eligibility Verification, Form I-9. USCIS also announced in the DATES section of the notice that employers can no longer use prior versions of Form I-9 effective May 7, 2013. In the SUPPLEMENTARY INFORMATION section of the notice, however, USCIS incorrectly described the effective date as being after May 7, 2013. This notice corrects this error and clarifies that employers may no longer use prior versions of the Form I-9 beginning May 7, 2013.

FOR FURTHER INFORMATION CONTACT: Sharon Ryan, Department of Homeland Security, U.S. Citizenship and Immigration Services, Verification Division, 131 M Street NE., Suite 200, Washington, DC 20529. For information about the employment eligibility verification process, employers can call the Verification hotline at 888-464-4218 (877-875-6028 for TTY) and employees can call 888-897-7781 (877-875-6028 for TTY) for further information. The public can also email the Verification Division at I-9Central@dhs.gov.

Correction

In the notice published in the Federal Register on March 8, 2013 at 78 FR 15030, USCIS incorrectly described the date on which employers can no longer use prior versions of Employment Eligibility Verification, Form I-9 (Form I-9). As correctly stated under the DATES caption of the notice, prior versions of Form I-9 can no longer be used effective May 7, 2013.

Accordingly, USCIS is correcting the notice as follows:

1. On page 15030, in the third column under the heading, III. Use of the Revised Form I-9, in the first sentence of the second paragraph, replace the word “After” with the word “Effective” so that the sentence reads: “Effective May 7, 2013, all prior versions of Form I-9 can no longer be used by the public.”

2. On page 15030, in the third column under the heading, III. Use of the Revised Form I-9, in the third sentence of the second paragraph, replace the word “After” with the word “Effective” so that the sentence reads: “Effective May 7, 2013, employers who fail to use Form I-9 (Rev. 03/08/13)N may be subject to all applicable penalties under section 274A of the INA, 8 U.S.C. 1324a, as enforced by U.S. Immigration and Customs Enforcement (ICE) and DOJ.”

Alejandro N. Mayorkas,
Director, U.S. Citizenship and Immigration Services.

[FR Doc. 2013-08224 Filed 4-8-13; 8:45 am]

BILLING CODE 9111-97-P